DEPARTMENT OF EDUCATION

Web-based Education Commission; Telephone Conference Call

AGENCY: Office of Postsecondary Education, Education.

ACTION: Web-based Education Commission; Telephone Conference Call.

SUMMARY: This notice announces the telephone conference call for the full Commission. Notice of this conference call is required under Section 10 (a)(2) of the Federal Advisory Committee Act. This document is intended to notify the general public of their opportunity to call into the conference.

DATE: The conference call will be on May 25, 2000, from 12:00-1:00 p.m. eastern standard time. Individuals interested in listening in on the call should contact the Commission for instructions.

FOR FURTHER INFORMATION CONTACT: David Byer, Executive Director, Web-based Education Commission, U.S. Department of Education, 1990 K Street, NW, Washington, DC 20006-8533. Telephone: (202) 219-7045. Fax: (202) 502-7873. Email: web—commission_ed.gov.

SUPPLEMENTARY INFORMATION: The Web-based Education Commission is authorized by Title VIII, Part J of the Higher Education Amendments of 1998, as amended by the Fiscal 2000 Appropriations Act for the Departments of Labor, Health, and Human Services, and Education, and Related Agencies. The Commission is required to conduct a thorough study to assess the critical pedagogical and policy issues affecting the creation and use of web-based and other technology-mediated content and learning strategies to transform and improve teaching and achievement at the K-12 and postsecondary education levels. The Commission must issue a final report to the President and the Congress, not later than 12 months after the first meeting of the Commission, which occurred November 16-17, 1999. The final report will contain a detailed statement of the Commission's findings and conclusions, as well as recommendations.

The purpose of the May 25 conference call is to (1) Provide an update on Commission activities; (2) discuss activities of each working group; (3) report on the progress of the web site design; and (4) discuss plans for the next Commission hearing in Atlanta on June 26, 2000.

The conference call is open to the public. Records are kept of all Commission proceedings and are available for public inspection at the office of the Web-based Education Commission, Room 8089, 1990 K Street, NW, Washington, DC 20006-8533 from the hours of 9:00 a.m. to 5:30 p.m.

Assistance To Individuals With Disabilities

The conference call is accessible to individuals with disabilities. Individuals who will need accommodations for a disability in order to participate in the call (i.e. interpreting services, assistive listening devices, or materials in alternative format) should contact the person listed in this notice at least two weeks before the scheduled meeting date. We will attempt to meet requests after this date, but cannot guarantee availability of the requested accommodation.

Electronic Access To This Document

You may view this document, as well as all other Department of Education documents published in the Federal Register, in text or Adobe Portable Document Format (PDF) on the Internet at either of the following sites:

http://ocfo.ed.gov/fedreg.htm

http://www.ed.gov/news/html

To use the PDF you must have the Adobe Acrobat Reader Program with Search, which is available free at either of the previously mentioned sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/indes.html

A. Lee Fritschler,
Assistant Secretary, Office of Postsecondary Education.

[FR Doc. 00-12670 Filed 5-18-00; 8:45 am]

BILLING CODE 4000-01-U